ENVIRONMENTAL PROTECTION AGENCY

[FRL—10008-97-OA]

Notification of Public Meetings of the Science Advisory Board Economic Guidelines Review Panel

AGENCY: Environmental Protection Agency (EPA).

ACTION: Notice.

SUMMARY: The Environmental Protection Agency (EPA) Science Advisory Board (SAB) Staff Office announces four public meetings of the Science Advisory Board Economic Guidelines Review Panel. The purpose of the meetings is to conduct a peer review of the EPA's revised document titled “Guidelines for Preparing Economic Analyses” and to develop a report responsive to charge questions on the revised document.

DATES: Meetings will be held on May 18, 2020, May 21, 2020, May 26, 2020 and June 9, 2020. All meetings will occur from 11:00 a.m. to 3:00 p.m. (Eastern Time).

ADDRESSES: The public meetings will be conducted remotely as an audio conference via webcast and telephone. Please refer to the SAB website at http://www.epa.gov/sab for information on how to access the meeting.

FOR FURTHER INFORMATION CONTACT: Any member of the public who wants further information concerning the meetings announced in this notice may contact Dr. Shaunta Hill-Hammond, Designated Federal Officer (DFO) via telephone (202) 564-3343, or email at hill-hammond.shaunta@epa.gov. Any technical questions concerning EPA's document titled “Guidelines for Preparing Economic Analyses” should be directed to Nathalie Simon (simon.nathalie@epa.gov). General information about the SAB, as well as any updates concerning the meetings announced in this notice can be found on the SAB website at http://www.epa.gov/sab.

SUPPLEMENTARY INFORMATION: Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Science Advisory Board Economic Guidelines Review Panel will hold four public meetings to peer review EPA's revised document titled “Guidelines for Preparing Economic Analyses.” The first three meetings (May 18, 21, and 26, 2020) will be dedicated to the review of the document and the development of Panel's responses to charge questions. The fourth meeting (June 9, 2020) will be dedicated to the review of the Panel's responses. The purpose of the “Guidelines for Preparing Economic Analyses” document is to define and describe best practices for economic analysis grounded in the economics literature. It also describes Executive Orders and other documents that impose analytic requirements and provides detailed information on selected important topics for economic analyses.

Availability of Meeting Materials: All meeting materials, including the agendas will be available prior to the meetings on the SAB web page at http://epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instructions below to submit comments.

Oral Statements: In general, individuals or groups requesting an oral statement will be limited to three minutes. Each person making an oral statement should consider providing written comments as well as their oral statement so that the points presented orally can be expanded upon in writing. Oral statements will be heard on two meeting dates, May 18, 2020 and June 9, 2020. Persons interested in providing oral statements for the meetings occuring on May 18, 2020 should contact the DFO via email at the contact information noted above by May 12, 2020, to be placed on the list of registered speakers. Persons interested in providing oral statements for the meetings occuring on June 9, 2020 should contact the DFO by email at the contact information noted above by June 3, 2020, to be placed on the list of registered speakers.

Written Statements: Written statements will be accepted throughout the advisory process; however, for timely consideration by SAB members, statements should be received by May 12, 2020 for the meetings occuring on May 18, 21, and 26, 2020 and by June 3, 2020 for the meeting occuring on June 9, 2020. Written statements should be supplied to the DFO at the contact information above via email. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meeting, to give the EPA as much time as possible to process your request.

Dated: April 28, 2020.
V. Khanna Johnston,
Deputy Director, EPA Science Advisory Board Staff Office.

[FR Doc. 2020-09286 Filed 4-30-20; 8:45 am]

BILLING CODE 6560-50-P